SECURITIES AND EXCHANGE COMMISSION

[Release No. IC-26983]

Notice of Applications for Deregistration Under Section 8(f) of the Investment Company Act of 1940

June 24, 2005.

The following is a notice of applications for deregistration under section 8(f) of the Investment Company Act of 1940 for the month of June, 2005. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on July 20, 2005, and should be accompanied by proof of service on the applicant, in the form of an affidavit or, for lawyers, a certificate of service. Hearing requests should state the nature of the writer's interest, the reason for the request, and the issues contested. Persons who wish to be notified of a hearing may request notification by writing to the Secretary, SEC, 100 F Street, NE., Washington, DC 20549-0609. For Further Information Conact: Diane L. Titus at (202) 551-6810, SEC, Division of Investment Management, Office of Investment Company Regulation, 100 F Street, NE., Washington, DC 20549-0504.

Bessemer Funds Trust [File No. 811-10355]

Summary: Applicant, a closed-end management company, seeks an order declaring that it has ceased to be an investment company. On April 19, 2005, applicant made a final liquidating distribution to its shareholders based on net asset value. Applicant paid $104,300 in expenses incurred in connection with the liquidation.

Filing Dates: The application was filed on May 26, 2005, and amended on June 17, 2005.

Applicant's Address: 630 Fifth Ave., 37th Floor, New York, NY 10111.

Kit Cole Investment Trust [File No. 811-9887]

Summary: Applicant seeks an order declaring that it has ceased to be an investment company. On December 29, 2004, applicant made a liquidating distribution to its shareholders, based on net asset value. Expenses of $15,466 incurred in connection with the liquidation were paid by Kit Cole Investment Advisory Services, Inc., applicant's investment adviser.

Filing Date: The application was filed on May 26, 2005.

Applicant's Address: 851 Irwin St., San Rafael, CA 94901.

Strong Large Cap Growth Fund, Inc. [File No. 811-3254]

Strong Balanced Fund, Inc. [File No. 811-3256]

Strong Opportunity Fund, Inc. [File No. 811-3793]

Strong Money Market Fund, Inc. [File No. 811-4374]

Strong Equity Funds II, Inc. [File No. 811-4384]

Strong Corporate Bond Fund, Inc. [File No. 811-4390]

Strong Municipal Bond Fund, Inc. [File No. 811-4769]

Strong Municipal Funds, Inc. [File No. 811-4770]

Strong Government Securities Fund, Inc. [File No. 811-4798]

Strong Short-Term Bond Fund, Inc. [File No. 811-5108]

Strong Discovery Fund, Inc. [File No. 811-5341]

Strong Advantage Fund, Inc. [File No. 811-5667]

Strong Common Stock Fund, Inc. [File No. 811-5687]

Strong Income Funds, Inc. [File No. 811-6195]

Strong Short-Term Municipal Bond Fund, Inc. [File No. 811-6409]

Strong International Equity Funds, Inc. [File No. 811-6524]

Strong Heritage Reserve Series, Inc. [File No. 811-7285]

Strong Income Funds II, Inc. [File No. 811-7335]

Strong Conservative Equity Funds, Inc. [File No. 811-7656]

Strong Asia Pacific Fund, Inc. [File No. 811-8098]

Strong Equity Funds, Inc. [File No. 811-8100]

Strong Short-Term Global Bond Fund, Inc. [File No. 811-8320]

Strong Life Stage Series, Inc. [File No. 811-9091]

Strong Income Trust [File No. 811-21209]

Summary: Each applicant seeks an order declaring that it has ceased to be an investment company. On April 11, 2005, each applicant transferred its assets to Wells Fargo Funds Trust, based on net asset value. All expenses incurred in connection with each applicant's reorganization were paid by Wells Fargo Funds Management, LLC, applicants' current investment adviser, and Strong Capital Management, Inc., applicants' previous investment adviser. Certain contingent rights, claims and liabilities of each applicant relating to shareholder class actions and derivative actions involving late trading and market timing allegations were transferred to a liquidating trust for the benefit of each applicant's former shareholders. Upon resolution of these claims by the liquidating trust, the trustees will distribute any net proceeds to former shareholders in a manner consistent with applicable law and the fiduciary duties of the trustees. In addition, each applicant's former shareholders may be entitled to certain amounts paid pursuant to regulatory settlements of market-timing and related investigations. An independent distribution consultant was retained by Strong Capital Management, Inc., applicants' investment adviser, to oversee the distribution of these amounts to shareholders.

Filing Dates: The applications were filed on April 21, 2005, and amended on June 15, 2005 and June 21, 2005.

Applicants' Address: 100 Heritage Reserve, Menomonee Falls, WI 53051.

Transamerica Index Funds, Inc. [File No. 811-21094]

Summary: Applicant seeks an order declaring that it has ceased to be an investment company. On October 29, 2004, applicant's sole shareholder redeemed its interest at net asset value. No expenses were incurred in connection with the liquidation.

Filing Dates: The application was filed on December 13, 2004, and amended on June 9, 2005.

Applicant's Address: 570 Carillon Parkway, St. Petersburg, FL 33716.

Safeco Resource Series Trust [File No. 811-4717]

Summary: Applicant seeks an order declaring that it has ceased to be an investment company. On December 10, 2004, Applicant distributed all of its assets to its shareholders based on net asset value pursuant to an agreement approved by the Applicant's shareholders to merge each portfolio of the Applicant into the corresponding portfolio of Pioneer Variable Contracts Trust. Aggregate expenses of approximately $793,778 incurred in connection with the reorganization and merger will be paid by Symetra Financial Corporation and by Pioneer Investment Management, Inc.

Filing Dates: The application was filed on February 10, 2005, and amended on June 6, 2005, and June 10, 2005.

Applicant's Address: Safeco Mutual Funds, 4854 154th Place, NE., Redmond, Washington 98052

For the Commission, by the Division of Investment Management, pursuant to delegated authority.
Jill M. Peterson,
Assistant Secretary.

[FR Doc. E5-3460 Filed 6-30-05; 8:45 am]

BILLING CODE 8010-01-P